DEPARTMENT OF TRANSPORTATION

Federal Aviation Administration

[Docket No. FAA-2024-1807]

Agency Information Collection Activities: Requests for Comments; Clearance of a Renewed Approval of Information Collection: Commercial Space Transportation Licensing Regulations

AGENCY: Federal Aviation Administration (FAA), DOT.

ACTION: Notice and request for comments.

SUMMARY: In accordance with the Paperwork Reduction Act of 1995, FAA invites public comments about our intention to request the Office of Management and Budget (OMB) approval to renew an information collection. The information will determine if applicant proposals for conducting commercial space launches can be accomplished according to regulations issued by the Office of the Associate Administrator for Commercial Space Transportation.

DATES: Written comments should be submitted by August 23, 2024.

ADDRESSES: Please send written comments:

By Electronic Docket: www.regulations.gov (Enter docket number into search field).

By mail: Charles Huet, 800 Independence Avenue SW, Room 331, Washington, DC 20591.

By fax: 202-267-5463.

FOR FURTHER INFORMATION CONTACT: Charles Huet by email at: Charles.huet@faa.gov; phone: 202-267-7427.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0608.

Title: Commercial Space Transportation Licensing Regulations.

Form Numbers: FAA Form 8800-1.

Type of Review: Renewal of an information collection.

Background: The Commercial Space Launch Act of 1984, 49 U.S.C. App. 2601-2623, as recodified at 49 U.S.C. subtitle IX, ch. 701—Commercial Space Launch Activities, 49 U.S.C. 70101-70119 (1994), requires certain data be provided in applying for a license to conduct commercial space launch activities. These data are required to demonstrate to the Federal Aviation Administration (FAA), Associate Administrator for Commercial Space Transportation (AST), that a license applicant's proposed activities meet applicable public safety, national security, and foreign policy interests of the United States.

Respondents: Approximately 17 space launch applicants.

Frequency: Information is collected on occasion.

Estimated Average Burden per Response: 163 hours.

Estimated Total Annual Burden: 2779 hours.

Issued in Washington, DC.
James A. Hatt,
Space Policy Division Manager, Commercial Space Transportation, Federal Aviation Administration.

[FR Doc. 2024-13787 Filed 6-21-24; 8:45 am]

BILLING CODE 4910-13-P